DEPARTMENT OF COMMERCE

National Oceanic and Atmospheric Administration

RIN 0648-XZ94

Fisheries of the South Atlantic; South Atlantic Fishery Management Council; Public Meeting

AGENCY: National Marine Fisheries Service (NMFS), National Oceanic and Atmospheric Administration (NOAA), Commerce.

ACTION: Notice of a public meeting.

SUMMARY: The South Atlantic Fishery Management Council will hold a meeting of its Habitat and Environmental Protection (Habitat) Advisory Panel in North Charleston, SC.

DATES: The meeting will take place November 16-17, 2010. See SUPPLEMENTARY INFORMATION for specific dates and times.

ADDRESSES: The meeting will be held at the Charleston Marriott Hotel, 170 Lockwood Blvd., Charleston, SC 29403; telephone: (866) 357-6667.

FOR FURTHER INFORMATION CONTACT: Kim Iverson, Public Information Officer, South Atlantic Fishery Management Council, 4055 Faber Place Drive, Suite 201, N. Charleston, SC, 29405; telephone: (843) 571-4366 or toll free (866) SAFMC-10; fax: (843) 769-4520; e-mail: kim.iverson@safmc.net.

SUPPLEMENTARY INFORMATION: Members of the Habitat Advisory Panel will meet from 9 a.m.-5 p.m. on November 16, 2010, and from 9 a.m. until 1 p.m. on November 17, 2010.

Issues to be addressed at the meeting include but are not limited to: The draft Comprehensive Ecosystem Based Amendment 2, a five-year Essential Fish Habitat review, the Governor's South Atlantic Alliance Action Plan, a status report on Gulf oil spill activities, habitat assessments conducted through the National Habitat Plan, regional ocean observing activities through Southeast Coastal and Ocean Observing Regional Association (SECOORA), regional fishery independent research overview, the establishment of a South Atlantic Landscape Conservation Cooperative (SALCC), and developing Regional GIS services for habitat, regulation and fishery research.

Although non-emergency issues not contained in this agenda may come before this group for discussion, those issues may not be the subject of formal action during this meeting. Action will be restricted to those issues specifically listed in this notice and any issues arising after publication of this notice that require emergency action under section 305(c) of the Magnuson-Stevens Fishery Conservation and Management Act, provided the public has been notified of the Council's intent to take final action to address the emergency.

Special Accommodations

This meeting is physically accessible to people with disabilities. Requests for auxiliary aids should be directed to the Council office (see FOR FURTHER INFORMATION CONTACT) 3 days prior to the meeting.

Note: The times and sequence specified in this agenda are subject to change.

Dated: October 19, 2010.
Tracey L. Thompson,
Acting Director, Office of Sustainable Fisheries, National Marine Fisheries Service.

[FR Doc. 2010-26701 Filed 10-21-10; 8:45 am]

BILLING CODE 3510-22-P